DEPARTMENT OF LABOR

Occupational Safety and Health Administration

[Docket No. OSHA-2022-0001]

Advisory Committee on Construction Safety and Health (ACCSH)

AGENCY: Occupational Safety and Health Administration (OSHA), Labor.

ACTION: Request for Nominations for Employee Representative on the Advisory Committee on Construction Safety and Health (ACCSH).

SUMMARY: The Secretary of Labor requests nominations for an employee representative on ACCSH.

DATES: Submit (postmark, send, transmit) nominations for ACCSH membership by February 22, 2022.

ADDRESSES: You may submit nominations and supporting materials by the following method:

Electronically: You may submit nominations, including attachments, electronically into Docket No. OSHA-2022-0001 at http://www.regulations.gov, which is the Federal eRulemaking Portal. Follow the online instructions for submissions.

Docket: To read or download comments or other material in the docket, go to http://www.regulations.gov. Documents in the docket are listed in the http://www.regulations.gov index; however, some information (e.g., copyrighted material) is not publicly available to read or download through the website. All submissions, including copyrighted material, are available for inspection through the OSHA Docket Office. Contact the OSHA Docket Office at (202) 693-2350 (TTY (877) 889-5627) for assistance in locating docket submissions.

Instructions: All submissions must include the agency name and the OSHA docket number for this Federal Register notice (OSHA-2022-0001). OSHA will post all submissions, including personal information, in the public docket, which may be available online. Therefore, OSHA cautions interested parties about submitting personal information such as Social Security numbers and birthdates. For further information on submitting comments, see the “Submission requirements” heading in the section of this notice titled SUPPLEMENTARY INFORMATION.

FOR FURTHER INFORMATION CONTACT:

For press inquiries: Mr. Frank Meilinger, Director, OSHA Office of Communications; telephone: (202) 693-1999; email: meilinger.francis2@dol.gov.

For general information about ACCSH and ACCSH membership: Mr. Damon Bonneau, OSHA, Directorate of Construction; telephone: (202) 693-2020; email: bonneau.damon@dol.gov.

Copies of this Federal Register document: Electronic copies of this Federal Register document are available at http://www.regulations.gov. This document, as well as news releases and other relevant information are also available on the OSHA web page at http://www.osha.gov.

SUPPLEMENTARY INFORMATION: The Secretary of Labor invites interested persons to submit nominations to fill one membership position for an Employee Representative on the Advisory Committee on Construction Safety and Health (ACCSH).

A. Background

ACCSH advises the Secretary of Labor and the Assistant Secretary of Labor for Occupational Safety and Health (Assistant Secretary) in the formulation of standards affecting the construction industry, and on policy matters arising in the administration of the safety and health provisions under the Contract Work Hours and Safety Standards Act (Construction Safety Act (CSA)) (40 U.S.C. 3701 et seq.) and the Occupational Safety and Health Act of 1970 (OSH Act) (29 U.S.C. 651 et seq.) (see also 29 CFR 1911.10 and 1912.3). In addition, the CSA and OSHA regulations require the Assistant Secretary to consult with ACCSH before the agency proposes any occupational safety and health standard affecting construction activities (40 U.S.C. 3704; 29 CFR 1911.10).

ACCSH operates in accordance with the Federal Advisory Committee Act (FACA), as amended (5 U.S.C. App. 2), and the implementing regulations (41 CFR 102-3 et seq.); and Department of Labor Manual Series Chapter 1-900 (8/31/2020). ACCSH generally meets two to four times a year.

B. ACCSH Membership

ACCSH consists of 15 members whom the Secretary appoints. ACCSH members generally serve staggered two-year terms, unless they resign, cease to be qualified, become unable to serve, or the Secretary removes them (29 CFR 1912.3(e)). The Secretary may appoint ACCSH members to successive terms. No member of ACCSH, other than members who represent employers or employees, shall have an economic interest in any proposed rule that affects the construction industry (29 CFR 1912.6).

The categories of ACCSH membership are:

• Five members who are qualified by experience and affiliation to present the viewpoint of employers in the construction industry;

• Five members who are similarly qualified to present the viewpoint of employees in the construction industry;

• Two representatives of State safety and health agencies;

• Two public members, qualified by knowledge and experience to make a useful contribution to the work of ACCSH, such as those who have professional or technical experience and competence with occupational safety and health in the construction industry; and

• One representative designated by the Secretary of the Department of Health and Human Services and appointed by the Secretary.

With this notice, OSHA is seeking to fill one vacant Employee Representative position. The Department of Labor is committed to equal opportunity in the workplace and seeks broad-based and diverse ACCSH membership. Any interested person or organization may self-nominate or nominate one or more other individuals for membership on ACCSH. Interested persons also are invited and encouraged to submit statements in support of nominees.

C. Submission Requirements

Nominations must include the following information:

• Nominee's contact information and current employment or position;

• Nominee's résumé or curriculum vitae, including prior membership on ACCSH and other relevant organizations and associations;

• A summary of the background, experience, and qualifications that addresses the nominee's suitability for nomination as an Employee Representative;

• Articles or other documents the nominee has authored that indicate the nominee's knowledge, experience, and expertise in occupational safety and health, particularly as it pertains to the construction industry; and

• A statement that the nominee is aware of the nomination, is willing to regularly attend and participate in ACCSH meetings, and has no conflicts of interest that would preclude membership on ACCSH.

D. Member Selection

The Secretary will select the ACCSH member on the basis of their experience, knowledge, and competence in the field of occupational safety and health, particularly as it pertains to the construction industry. Information received through this nomination process, in addition to other relevant sources of information, will assist the Secretary in making this appointment to ACCSH. The Secretary will consider individuals nominated in response to this Federal Register document, as well as other qualified individuals, in selecting members to ACCSH.

Authority and Signature

Douglas L. Parker, Assistant Secretary of Labor for Occupational Safety and Health, authorized the preparation of this notice under the authority granted by 29 U.S.C. 655(b)(1) and 656(b), 40 U.S.C. 3704(a)(2), 5 U.S.C. App. 2, Secretary of Labor's Order No. 8-2020 (85 FR 58393), and 29 CFR part 1912.

Signed at Washington, DC, on January 13, 2022.
Douglas L. Parker,
Assistant Secretary of Labor for Occupational Safety and Health.

[FR Doc. 2022-01131 Filed 1-20-22; 8:45 am]

BILLING CODE 4510-26-P